DEPARTMENT OF COMMERCE

National Oceanic and Atmospheric Administration

[ I.D. 050405A]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene its Special Coral Scientific and Statistical Committee (SSC).

DATES: The meeting will be held on Thursday, May 26, 2005 from 8:30 a.m. to 3 p.m.

ADDRESSES: The meeting will be held at the Best Western - The Westshore Hotel, 1200 North Westshore Boulevard, Tampa, Florida 33607.

Council address: Gulf of Mexico Fishery Management Council, 3018 North U.S. Highway 301, Suite 1000, Tampa, FL 33619.

FOR FURTHER INFORMATION CONTACT: Dr. Richard Leard, Deputy Executive Director, Gulf of Mexico Fishery Management Council; telephone: 813.228.2815.

SUPPLEMENTARY INFORMATION: The Gulf of Mexico Fishery Management Council (Council) will convene the Special Coral Scientific and Statistical Committee (SSC) to discuss previous research efforts to locate and identify coral reef resources in the Gulf of Mexico. The Special Coral SSC will also be asked to provide recommendations on future research needs. Finally, the Special Coral SSC will discuss issues relative to Acropora and the 2004 Status of Coral Reefs of the World Report.

A copy of the agenda and related materials can be obtained by calling the Council office at 813.228.2815.

Although other non-emergency issues not on the agendas may come before the Special Coral SSC for discussion, in accordance with the Magnuson-Stevens Fishery Conservation and Management Act (M-SFCMA), those issues may not be the subject of formal action during this meeting. Actions of the Special Coral SSC will be restricted to those issues specifically identified in the agendas and any issues arising after publication of this notice that require emergency action under Section 305(c) of the M-SFMCA, provided the public has been notified of the Council's intent to take action to address the emergency.

Special Accommodations

These meetings are physically accessible to people with disabilities. Requests for sign language interpretation or other auxiliary aids should be directed to Dawn Aring at the Council (see ADDRESSES) by May 16, 2005.

May 4, 2005.
Emily Menashes,
Acting Director, Office of Sustainable Fisheries, National Marine Fisheries Service.

[FR Doc. E5-2228 Filed 5-6-05; 8:45 am]

BILLING CODE 3510-22-S